DEPARTMENT OF COMMERCE

National Oceanic and Atmospheric Administration

Proposed Information Collection; Comment Request; Gathering Observational Data on Historical and Current Biological Trends among Populations of Alewife (Alosa pseudoharengus) and Blueback Herring (A. aestivalis)

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 27, 2014.

ADDRESSES: Direct all written comments to Jennifer Jessup, Departmental Paperwork Clearance Officer, Department of Commerce, Room 6616, 14th and Constitution Avenue NW, Washington, DC 20230 (or via the Internet at JJessup@doc.gov.

FOR FURTHER INFORMATION CONTACT: Requests for additional information or copies of the information collection instrument and instructions should be directed to Dan Kircheis, (207) 866-7320 or Dan.Kircheis@noaa.gov.

SUPPLEMENTARY INFORMATION:

I. Abstract

The purpose of this information collection is to gather historical and current population and biological information from commercial and recreational harvesters of the two species of river herring; alewife (Alosa pseudoharengus) and blueback (A. aestivalis). Given that commercial and recreational fishermen have a unique and important understanding of the long term status of the species for which they are fishing, NOAA intends to contact both current and retired recreational and commercial harvesters of river herring from Maine to North Carolina, to inquire about recent and long-term observations of changes in run-timing, abundance, distribution, individual size and species composition. Results will be used to assist NOAA in identifying observational trends among river herring populations throughout their range so as to make more informed decisions with respect to their management.

II. Method of Collection

Respondents will be contacted by phone to schedule an interview. Interviews will be held either face to face with the respondent or by phone.

III. Data

OMB Control Number: None.

Form Number: N/A

Type of Review: Regular submission (request for a new information collection).

Affected Public: Business or other for-profit organizations; individuals or households.

Estimated Number of Respondents: 400.

Estimated Time Per Response: 1 hour.

Estimated Total Annual Burden Hours: 400.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 19, 2014.
Gwellnar Banks,
Management Analyst, Office of the Chief Information Officer.

[FR Doc. 2014-06431 Filed 3-24-14; 8:45 am]

BILLING CODE 3510-22-P